DEPARTMENT OF LABOR

Employment and Training Administration

[TA-W-71,833]

E.I. Dupont, Circleville, OH; Notice of Termination of Investigation

Pursuant to Section 223 of the Trade Act of 1974, as amended, an investigation was initiated in response to a petition filed on July 28, 2009 by a one-stop operator/partner on behalf of workers of E.I. Dupont, Circleville, Ohio.

The petition is a duplicate of petition number TA-W-71,750, filed on July 17, 2009 that is subject of an ongoing investigation. Therefore, further investigation in this case would serve no purpose and the investigation has been terminated.

Signed at Washington, DC, this 13th day of August 2009.
Richard Church,
Certifying Officer, Division of Trade Adjustment Assistance.

[FR Doc. E9-20445 Filed 8-25-09; 8:45 am]

BILLING CODE 4510-FN-P